NATIONAL CREDIT UNION ADMINISTRATION

Sunshine Act Meetings; Notice of Meetings

TIME AND DATE: 10 a.m., Thursday, February 24, 2000.

PLACE: Board Room, 7th Floor, Room 7047, 1775 Duke Street, Alexandria, VA 22314-3428.

STATUS: Open.

MATTERS TO BE CONSIDERED:

1. Request from a Federal Credit Union to convert to a Community Charter.

2. Request from a Corporate Credit Union for a Waiver under Part 704, NCUA's Rules and Regulation.

3. Proposed Rule: Amendment to Parts 709, NCUA's Rules and Regulations, Involuntary Liquidation.

4. Proposed Rule: Part 716, NCUA's Rules and Regulations, Privacy Regulation.

5. Final Rule: Amendments to Parts 724 and 745, NCUA's Rules and Regulations, Individual Retirement Accounts (IRAs) in Several U.S. Territories and Possessions.

6. NCUA's “Results Act” Strategic Plan and Annual Performance Plan.

RECESS: 11:15 a.m.

TIME AND DATE: 11:30 a.m., Thursday, February 24, 2000.

PLACE: Board Room, 7th Floor, Room 7047, 1775 Duke Street, Alexandria, VA 22314-3428.

STATUS: Closed.

MATTERS TO BE CONSIDERED:

1. Administrative Action under Section 208 of the Federal Credit Union Act. Closed pursuant to exemptions (8), (9)(A)(ii) and (9)(B).

2. Three (3) Personnel Actions. Closed pursuant to exemptions (2), (5), (6), (7) and (9)(B).

FOR FURTHER INFORMATION CONTACT: Becky Baker, Secretary of the Board, Telephone (703) 518-6304.

Becky Baker,
Secretary of the Board.

[FR Doc. 00-4274 Filed 2-17-00; 3:32 pm]

BILLING CODE 7535-01-M